NUCLEAR REGULATORY COMMISSION

[NRC-2010-0185]

Notice of Availability of Revised Model Proposed No Significant Hazards Consideration Determination for Plant-Specific Adoption of Technical Specifications Task Force Traveler TSTF-475, Revision 1, “Control Rod Notch Testing Frequency and SRM Insert Control Rod Action”

AGENCY: Nuclear Regulatory Commission (NRC).

ACTION: Notice of Availability.

SUMMARY: The Notice of Availability (NOA) for adoption of TSTF-475, Revision 1, using the Consolidated Line Item Improvement Process (CLIIP), was published in the Federal Register on November 13, 2007 (72 FR 63935). The prior NOA followed the CLIIP and contained a model safety evaluation, a model license amendment application, and a model proposed no significant hazards consideration determination (NSHCD). The purpose of this NOA is to revise the model proposed NSHCD. Technical Specifications Task Force (TSTF) Traveler TSTF-475, Revision 1, “Control Rod Notch Testing Frequency and SRM Insert Control Rod Action,” is available in the Agencywide Documents Access and Management System (ADAMS) under Accession Number ML071420428.

Documents: You can access publicly available documents related to this notice using the following methods:

NRC's Public Document Room (PDR): The public may examine and for a fee have copied publicly available documents at the NRC's PDR, Room O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

FOR FURTHER INFORMATION CONTACT: Barry W. Miller, Senior Project Manager, Licensing Processes Branch, Mail Stop: O-12 D3, Division of Policy and Rulemaking, Office of Nuclear Reactor Regulation, U.S. Nuclear Regulatory Commission, Washington, DC, 20555-0001; telephone 301-415-4117 or e-mail at Barry.Miller@nrc.gov.

Dated at Rockville, Maryland, this 17th day of May 2010.
For the Nuclear Regulatory Commission.
Michael D. McCoppin,
Acting Chief, Licensing Processes Branch, Division of Policy and Rulemaking, Office of Nuclear Reactor Regulation.

Revised Model Proposed No Significant Hazards Consideration Determination for Plant-Specific Adoption of Technical Specifications Task Force Traveler TSTF-475, Revision 1, “Control Rod Notch Testing Frequency and SRM Insert Control Rod Action”

Description of amendment request: [(1) The proposed amendment would change the frequency of control rod notch testing, as specified in technical specification (TS) surveillance requirement (SR) [3.1.3.2], from at least once per 7 days to at least once per 31 days. The purpose of this SR is to confirm control rod insertion capability which is demonstrated by inserting each partially or fully withdrawn control rod at least one notch and observing that the control rod moves. This ensures that the control rod is not stuck and is free to insert on a scram signal. (2) The proposed amendment would add the word “fully” to the Action for TS Limiting Condition for Operation (LCO) [3.3.1.2] Required Action E.2 to clarify the requirement to insert fully all insertable control rods in core cells containing one or more fuel assemblies when the required source range monitor (SRM) instrumentation is inoperable. (3)] The proposed amendment would revise Example 1.4-3 in Section 1.4 “Frequency” to clarify that the 1.25 surveillance test interval extension in SR [3.0.2] is applicable to time periods discussed in NOTES in the “SURVEILLANCE” column in addition to the time periods in the “FREQUENCY” column. The licensee stated that the proposed amendment is based on Nuclear Regulatory Commission (NRC)-approved Technical Specifications Task Force (TSTF) change Traveler TSTF-475, Revision 1, “Control Rod Notch Testing Frequency and SRM Insert Control Rod Action.” The availability of this change to the Standard Technical Specifications (STS) was announced in the Federal Register on November 13, 2007 (72 FR 63935), as part of the consolidated line item improvement process.

Basis for proposed no significant hazards consideration determination: As required by 10 CFR 50.91(a), an analysis of the issue of no significant hazards consideration is presented below.

1. Does the proposed amendment involve a significant increase in the probability or consequences of an accident previously evaluated?

Response: No.

The proposed change to SR [3.1.3.2] reduces the frequency of control rod notch testing. Changing the frequency of testing is not expected to have any significant impact on the reliability of the control rods to insert as required on a scram signal. The proposed change to the Required Action E.2 for LCO [3.3.1.2] merely clarifies the intent of the action. The proposed change to revise Example 1.4-3 in Section 1.4 “Frequency” clarifies the applicability of the 1.25 surveillance test interval extension. There are no physical plant modifications associated with this change. The proposed amendment would not alter the way any structure, system, or component (SSC) functions and would not alter the way the plant is operated. As such, the proposed amendment would have no impact on the ability of the affected SSCs to either preclude or mitigate an accident. Therefore, the proposed change does not involve a significant increase in the probability or consequences of an accident previously evaluated.

2. Does the proposed amendment create the possibility of a new or different kind of accident from any accident previously evaluated?

Response: No.

The proposed amendment would not change the design function or operation of the SSCs involved and would not impact the way the plant is operated. As such, the proposed change would not introduce any new failure mechanisms, malfunctions, or accident initiators not already considered in the design and licensing bases. Therefore, the proposed change does not create the possibility of a new or different kind of accident from any previously evaluated.

3. Does the proposed amendment involve a significant reduction in a margin of safety?

Response: No.

The margin of safety is associated with the confidence in the ability of the fission product barriers (i.e., fuel cladding, reactor coolant pressure boundary, and containment structure) to limit the level of radiation to the public. There are no physical plant modifications associated with the proposed amendment. The proposed amendment would not alter the way any SSC functions and would not alter the way the plant is operated. The proposed amendment would not introduce any new uncertainties or change any existing uncertainties associated with any safety limit. The proposed amendment would have no impact on the structural integrity of the fuel cladding, reactor coolant pressure boundary, or containment structure. Based on the above considerations, the NRC staff concludes that the proposed amendment would not degrade the confidence in the ability of the fission product barriers to limit the level of radiation to the public. Therefore, the proposed change does not involve a significant reduction in a margin of safety.

Based on this review, it appears that the three standards of 10 CFR 50.92(c) are satisfied and the requested amendment involves no significant hazards consideration.

[FR Doc. 2010-12708 Filed 5-25-10; 8:45 am]

BILLING CODE 7590-01-P